JOINT BOARD FOR THE ENROLLMENT OF ACTUARIES

Meeting of the Advisory Committee

AGENCY: Joint Board for the Enrollment of Actuaries.

ACTION: Notice of Federal Advisory Committee meeting; amended.

SUMMARY: This notice amends the location of the partially closed meeting of the Advisory Committee on Actuarial Examinations previously announced in the Federal Register of June 14, 2024.

DATES: July 11, 2024, from 9 a.m. to 5 p.m., and July 12, 2024, from 9:30 a.m. to 3 p.m.

FOR FURTHER INFORMATION CONTACT: Elizabeth Van Osten, Designated Federal Officer, Advisory Committee on Actuarial Examinations, at (202) 312-3648 or Elizabeth.jvanosten@irs.gov.

SUPPLEMENTARY INFORMATION: As published in the Federal Register of June 14, 2024 (89 FR 50634), the meeting was to be held at the Internal Revenue Service, 1111 Constitution Avenue NW, Washington, DC 20224. However, due to an unexpected building closure precluding an in-person meeting, the meeting will be held by teleconference instead. There are no other changes to the meeting. Because the circumstances necessitating the change to the venue of the meeting are beyond the control of the Joint Board or the Enrollment of Actuaries, it is unable to provide public notification about the changes, as required by 41 CFR 102-3.150(a).

Dated: July 3, 2024.
Thomas V. Curtin, Jr.,
Executive Director, Joint Board for the Enrollment of Actuaries.

[FR Doc. 2024-14991 Filed 7-5-24; 8:45 am]

BILLING CODE 4830-01-P